DEPARTMENT OF AGRICULTURE

Forest Service

Kootenai National Forest; Fortine Ranger District; Montana; Ten Lakes Travel Management Project

AGENCY: Forest Service, USDA.

ACTION: Notice of intent to prepare an environmental impact statement.

SUMMARY: This project includes specific changes to existing over-snow motorized and non-snow mechanized transport (including bicycles) on public access routes (roads and trails), areas, and prohibitions within the Ten Lakes Travel Management Project area.

DATES: Comments concerning the scope of the analysis must be received 30 days from the date of publication of this notice in the Federal Register. The draft environmental impact statement is expected May of 2016 and the final environmental impact statement is expected August of 2016.

ADDRESSES: Send written comments to Project Leader Amanda Villwock, Eureka Ranger Station, 949 US Hwy 93 N, Eureka, MT 59917. Comments may also be sent via email to comments-northern-kootenai-fortine@fs.fed.us or via facsimile to 406-296-7188.

FOR FURTHER INFORMATION CONTACT: Amanda Villwock, Project Leader, at 406-296-7145 or avillwock@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of this project is to develop a travel management plan (winter and summer) for the Ten Lakes Wilderness Study Area (WSA) to comply with the terms of the 2007 Settlement Agreement with the Montana Wilderness Association and to maintain wilderness character and the potential for inclusion in the National Wilderness Preservation system that existed in 1977. The project boundary contains the WSA and adjacent areas that are common entrance points to the WSA.

Proposed Action

Alternative 2, the Proposed Action, includes summer and winter travel management. This includes over-snow vehicle travel and non-snow trail management (mechanized and non-mechanized).

Over-snow vehicle travel contains two distinct seasons. Season 1 (December 1-March 31) proposes to allow over-snow vehicle travel on 36,700 acres and 51.6 miles of designated over-snow motorized routes. Approximately 15,840 of those acres are within the WSA, or 46 percent of the WSA. Season 2 (April 1-May 31) proposes to allow over-snow vehicles on 43.2 miles of designated motorized over-snow vehicle routes, with no travel off designated routes. No travel would occur within the WSA.

Northern Region Forest Service Manual Supplement No. 2300-2008-1, section 2329 (Management of Wilderness Study Areas) states that mountain bikes may be allowed on trails that had established motor bike use in 1977, or on other non-motorized trails as long as the aggregate amount of mountain bike use maintains the wilderness character of the WSA as it existed in 1977 and maintains potential for inclusion in the National Wilderness Preservation System. In 1977, 15.9 miles of trail in the area that would become the WSA were open to motorized vehicles yearlong. Thus, manual direction could allow for some mechanized use in the WSA.

Non-snow trail management proposes 20.3 miles of trail available for mechanized use, or 24% of the project area, with 8.7 miles of trail within the WSA. All trails will allow non-motorized and non-mechanized uses like hiking and horses. No non-snow motorized use is proposed.

Responsible Official

The Responsible Official is the Fortine District Ranger.

Nature of Decision To Be Made

The framework for the Decision includes determining the appropriate routes and areas of over-snow motorized and non-snow mechanized use in the Ten Lakes WSA, that will maintain its wilderness character and the potential for inclusion in the National Wilderness Preservation system as they existed in 1977. Decisions made outside of the WSA are relative to common access points to the WSA and how they effect levels of use and enforcement in the WSA.

Preliminary Issues

Issues identified by the interdisciplinary team and scoping comments include effects to wilderness character as it existed in 1977, effects to the local economy, effects to the human environment, and effects to wildlife from motorized use.

Scoping Process

This notice of intent initiates a second scoping process, which guides the development of the environmental impact statement. Scoping occurred in April of 2015, with a letter and information about the Proposed Action sent to interested parties. Comments received led to the development of the Alternatives and the decision to analyze the project in an environmental impact statement.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: April 1, 2016.
Bryan L. Donner,
District Ranger.

[FR Doc. 2016-08420 Filed 4-12-16; 8:45 am]

BILLING CODE 3410-11-P